DEPARTMENT OF ENERGY

Federal Energy Regulatory Commission

[Docket No. EL05-90-000]

PJM Interconnection, L.L.C.; Notice of Institution of Proceeding and Refund Effective Date

April 20, 2005.

On April 19, 2005, the Commission issued an order initiating a proceeding in Docket No. EL05-90-000 under section 206 of the Federal Power Act to examine whether the interconnection portion of PJM Interconnection, L.L.C.'s (PJM) open access transmission tariff (OATT) needs to be modified to allow PJM to enter into conforming interconnection agreements. PJM Interconnection, L.L.C., 111 FERC ¶ 61, 098 (2005).

The refund effective date in Docket No. EL05-90-000, established pursuant to section 206 of the Federal Power Act, will be 60 days from the date of publication of this notice in the Federal Register.

Magalie R. Salas,
Secretary.

[FR Doc. E5-2007 Filed 4-27-05; 8:45 am]

BILLING CODE 6717-01-P